DEPARTMENT OF AGRICULTURE

Submission for OMB Review; Comment Request

November 29, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Tomatoes From Souss-Massa-Draa, Morocco.

OMB Control Number: 0579-0345.

Summary of Collection: Under the Plant and Protection Act (7 U.S.C. 7701), the Secretary of Agriculture is authorized to carry out operation or measures to detect, eradicate, suppress, control, prevent, or retard the spread of plant pests new to the United States not known to be widely distributed throughout the United States. Currently, the regulations in 319.56-28(c) authorized the importation of pink tomatoes from the provinces of El Jadida and Safi in Morocco, and the province of Dahkla in Western Sahara into the United States subject to a systems approach. This approach requires pest-free growing structures, growth in specified regions, shipping date restrictions, packinghouse safeguards, and the export of only pink tomatoes.

Need and Use of the Information: The Animal and Plant Health Inspection Service (APHIS) will use the following information activity to allow for the importation of commercial consignments of tomatoes from the Souss-Massa-Draa region of Morocco into the United States while continuing to provide protection against the introduction of quarantine pests: Phytosanitary Certificate (foreign) with Declaration, Records of Trap Placement and Medfly Captures, Inspection of Traps, and Labeling Identifying Production Site. If this information is not collected, APHIS' ability to protect the United States from exotic insect pests would be severely compromised.

Description of Respondents: Foreign Government, Business or other for-profit.

Number of Respondents: 10.

Frequency of Responses: Reporting: On occasion.

Total Burden Hours: 391.

Animal and Plant Health Inspection Service

Title: Importation of Eggplant From Israel.

OMB Control Number: 0579-0350.

Summary of Collection: Under the Plant and Protection Act (7 U.S.C. 7701), the Secretary of Agriculture is authorized to carry out operation or measures to detect, eradicate, suppress, control, prevent, or retard the spread of plant pests new to the United States not known to be widely distributed throughout the United States. The Israeli National Plant Protection Organization (NPPO) has requested that the Animal and Plant Health Inspection Service (APHIS) amend the regulations to allow fresh eggplant (Solanum Melongena L.) to be imported from Israel into the continental United States. APHIS' fruits and vegetables regulations allow the importation of commercial shipments of fresh eggplant from Israel. As a condition of entry, the eggplant must be grown under a system approach that would include requirements for pest exclusion at the production site, fruit fly trapping inside and outside the production site, and pest-excluding packinghouse procedures.

Need and Use of the Information: APHIS will use the following information activities to allow for the importation of commercial consignments of fresh eggplant from Israel into the United States while continuing to provide protection against the introduction of quarantine pests: Phytosanitary Certificate (foreign) Trapping Records; Inspection of Pest-Exclusionary Structures by Israel NPPO's, and Labeling of Boxes. Failure to collect this information would cripple APHIS' ability to ensure that eggplant from Israel is not carrying plant pests.

Description of Respondents: Foreign Government, Business or other for-profit.

Number of Respondents: 2.

Frequency of Responses: Reporting: On occasion.

Total Burden Hours: 4.

Ruth Brown,
Departmental Information Collection Clearance Officer.

[FR Doc. 2011-31033 Filed 12-1-11; 8:45 am]

BILLING CODE 3410-34-P